DEPARTMENT OF TRANSPORTATION

Federal Highway Administration

[Docket No. FHWA-2024-0064]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by October 18, 2024.

ADDRESSES: You may submit comments identified by DOT Docket ID Number 0064 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Mr. Michael Dougherty, (667) 668-1781, Office of Policy and Governmental Affairs, Office of Highway Policy Information, 1200 New Jersey Avenue SE, Washington, DC 20590. Office hours are from 8 a.m. to 4:30 p.m., Monday through Friday, except Federal holidays.

SUPPLEMENTARY INFORMATION: We published a Federal Register Notice with a 60-day public comment period on this information collection on June 21, 2024, at [89 FR 52200]. There were no comments received.

Title: Highway Use Tax Evasion Discretionary Grant Program.

Background: The Highway Use Tax Evasion Projects (HUTE) program provides funding to the Internal Revenue Service (IRS) and the States to carry out intergovernmental enforcement efforts, along with training and research, to reduce evasion of payment of motor fuel and other highway use taxes, which are the principal sources for Federal and State highway funding. Under the current Surface Transportation Authorization, the Infrastructure Investment and Jobs Act (IIJA), $2 million is available to make grants for intergovernmental enforcement efforts, including research and training. The intergovernmental enforcement efforts grants are awarded to State agencies through a competitive application process from which FHWA and the IRS make selections based on the most innovative, intergovernmental proposals. The States then perform various tasks, including increased enforcement, enhancement of data systems, and coordination with other State agencies.

The remaining funding may, at the discretion of the Secretary of Transportation, either be awarded for intergovernmental enforcement efforts grants, or allocated to the IRS for their enforcement efforts.

While the statute allows for the IRS to determine the use of their allocations, they must be used in some fashion related to the identification and elimination of highway use tax evasion. For both the States and the IRS, the initiatives may include, but are not limited to, office examinations, refinery and terminal examinations, and on-road enforcement in areas such as the illegal use of dyed diesel fuel by motor vehicles.

Respondents: There are 51 respondents, including 50 State Transportation Departments, and the District of Columbia. While the applications are open to all those organizations, on average, about 16 applications are received each year for grant requests, some of which include multiple States, which brings the total individual projects to around 30.

Frequency: On an on-going basis as grant opportunities are announced.

Estimated Average Burden per Response: There are an average of 16 applications filed each cycle. It takes approximately 40 hours to gather the information and upload it through the grants.gov system.

Estimated Total Annual Burden Hours: Total estimated average annual burden is 800 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: September 13, 2024.
Jazmyne Lewis,
Information Collection Officer.

[FR Doc. 2024-21253 Filed 9-17-24; 8:45 am]

BILLING CODE 4910-22-P